Proclamation 8109 of February 27, 2007

Women's History Month, 2007

By the President of the United States of America

A Proclamation

Throughout our history, the vision and determination of women have strengthened and transformed America. As we celebrate Women's History Month, we recognize the vital contributions women have made to our country.

The strong leadership of extraordinary women has altered our Nation's history. Sojourner Truth, Alice Stone Blackwell, and Julia Ward Howe opened doors for future generations of women by advancing the cause of women's voting rights and helping make America a more equitable place. In 1855, Dr. Mary E. Walker became one of the first female physicians in the country. Dr. Walker volunteered her medical services during the Civil War and became the only woman in United States history to receive the Medal of Honor. Vivian Malone Jones stood her ground in the face of a great injustice and helped integrate the University of Alabama, breaking down racial barriers to higher education and becoming the school's first African-American graduate.

Our Nation is a land of great opportunity, and women are seizing that opportunity and shaping the future of America in all walks of life. A record number of women are serving in the halls of Congress, and the number of women-owned businesses continues to grow. The women of our Armed Forces are making a vital contribution to our Nation's security by serving the cause of freedom and peace around the world. And by giving care and guidance, America's mothers are helping to build the foundation for the success of our Nation's children and strengthening the character of our country. This month, we honor the spirit, leadership, and hard work of American women.

NOW, THEREFORE, I, GEORGE W. BUSH, President of the United States of America, by virtue of the authority vested in me by the Constitution and laws of the United States, do hereby proclaim March 2007 as Women's History Month. I call upon the people of the United States to observe this month with appropriate programs, ceremonies, and activities that honor the history, accomplishments, and contributions of American women.

IN WITNESS WHEREOF, I have hereunto set my hand this twenty-seventh day of February, in the year of our Lord two thousand seven, and of the Independence of the United States of America the two hundred and thirty-first.

[FR Doc. 07-1000

Filed 3-1-07; 8:49 am]

Billing code 3195-01-P